DEPARTMENT OF TRANSPORTATION

Federal Aviation Administration

RTCA Special Committee 198: Next-Generation Air/Ground Communications System (NEXCOM)

AGENCY: Federal Aviation Administration (FAA), DOT.

ACTION: Notice of RTCA Special Committee 198 meeting.

SUMMARY: The FAA is issuing this notice to advise the public of a meeting of RTCA Special Committee 198: Next-Generation Air/Ground Communications system (NEXCOM).

DATES: The meeting will be held on August 15, 2001, starting at 9:00 a.m.

ADDRESSES: The meeting will be held at ARINC, 2551 Riva Road, Building 6, Room 6A1, Annapolis, MD 21401.

FOR FURTHER INFORMATION CONTACT: RTCA Secretariat, 1828 L Street, NW., Suite 805, Washington, DC 20036; telephone (202) 833-9339; fax (202) 833-9434; web site http://www.rtca.org.

SUPPLEMENTARY INFORMATION: Pursuant to section 10(a)(2) of the Federal Advisory Committee Act (Pub. L. 92-463, 5 U.S.C., Appendix 2), notice is hereby given for a Special Committee 198 meeting. The agenda will include:

August 15

• Opening Session (Welcome and Introductory Remarks, Review Minutes of Previous Meeting)

• Review and Discuss Comments on the Final Draft of the Document: Response to the Report of the Chairman's Committee on NEXCOM

• Review Position Papers for Working Group 2 (Principles of Operation)

• Review Draft of WG-2 and Receive Plenary Session Comments

• Closing Session (Review Status of Action Items, Date and Place of Next Meeting)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on July 25, 2001.
Janice L. Peters,
FAA Special Assistant RTCA Advisory Committee.

[FR Doc. 01-19160 Filed 7-31-01; 8:45 am]

BILLING CODE 4910-13-M